DEPARTMENT OF HOMELAND SECURITY

Coast Guard

33 CFR Part 117

[Docket No. USCG-2025-0312]

RIN 1625-AA09

Drawbridge Operation Regulation; Inside Thorofare, Ventnor City, New Jersey

AGENCY: Coast Guard, DHS.

ACTION: Final rule.

SUMMARY: The Coast Guard is changing the operating schedule that governs the Dorset Avenue Bridge across Inside Thorofare, mile 72.1, at Ventnor City, NJ. The final rule will allow the drawbridge to only open between the hours of 11 p.m. to 7 a.m., if at least four hours' notice is given.

DATES: This rule is effective February 25, 2026.

ADDRESSES: To view documents mentioned in this preamble as being available in the docket, go to https://www.regulations.gov. Type the docket number USCG-2025-3012 in the “SEARCH” box and click “SEARCH”. In the Document Type column, select “Supporting & Related Material.”

FOR FURTHER INFORMATION CONTACT: If you have questions on this rule, call or email Mr. Jack H. Williams, Bridge Management Specialist, USCG East District; telephone 206-815-5085, email Jack.H.Williams2@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

II. Background Information and Regulatory History

On June 9, 2025, the Coast Guard published a Notice of Proposed Rulemaking NPRM) entitled “Drawbridge Operation Regulation; Inside Thorofare, Ventnor City, New Jersey” in the Federal Register (90 FR 24256). There we stated why we issued the NPRM and invited comments on our proposed regulatory action related to this regulatory change. During the comment period that ended July 9, 2025, we received no comments.

III. Legal Authority and Need for Rule

The Coast Guard is issuing this rule under authority 33 U.S.C. 499. The Dorset Avenue Bridge across Inside Thorofare, mile 72.1, at Ventnor City, NJ, has a vertical clearance of 9 feet at mean high water in the closed to navigation position (unlimited in the open to navigation position) and a horizontal clearance of 50 feet between the bridge protective system. Waterway users include pleasure craft, commercial and sport fishing vessels.

The existing drawbridge operating regulation for the Dorset Avenue Bridge is listed in 33 CFR 117.733(i) and requires that the Bridge open on signal except that from June 1 through September 30, from 9:15 a.m. to 9:15 p.m., the draw need only open at 15 and 45 minutes after the hour. A review of the drawbridge logs provided by Atlantic County, the Bridge Owner, has revealed that requests for opening of the bridge have decreased thus indicating minimal use. For the years 2022, 2023, and 2024, from 11 p.m. to 7 a.m., the Dorset Avenue Bridge has opened for vessels 42, 51, and 29 times, respectively. Because of minimal demand for bridge opening, between the hours of 11 p.m. to 7 a.m., the bridge owner has requested that during these hours, year-round, the bridge need only open when a four-hour advance notice is given.

IV. Discussion of Comments, Changes and the Final Rule

The Coast Guard received no comments on the NPRM and provided a comment period of 30 days. The Coast Guard is amending Section 117.733 by revising paragraph (i) to include a new 4 hour notice requirement for openings between the hours of 11 p.m. and 7 a.m. The final rule will require a four-hour advance notice for openings, between the hours of 11 p.m. and 7 a.m., for the Dorset Avenue Bridge. Vessels that can pass under the restricted vertical clearance and without requesting a bridge opening may do so. The existing operating schedule for the June 1 through September 30 time period will remain. The existing regulations states from June 1 through September 30, from 9:15 a.m. to 9:15 p.m., the draw need open only on the 15 and 45 minutes after the hour. At all other times not mentioned, the bridge will open on signal.

V. Regulatory Analyses

We developed this rule after considering numerous statutes and Executive Orders related to rulemaking. Below we summarize our analyses based on a number of these statutes and Executive Orders.

A. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received 0 comments from the Small Business Administration on this rule. The Coast Guard certifies under 5 U.S.C. 605(b) that this rule will not have a significant economic impact on a substantial number of small entities for the following reasons. Small entities can continue to pass under the drawbridge with a four-hour advance notice for openings, between the hours of 11 p.m. and 7 a.m., for the Dorset Avenue Bridge. Vessels that can pass under the restricted vertical clearance and without requesting a bridge opening may do so.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev. 1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.4.

2. Amend § 117.733 by revising paragraph (i) to read as follows:

§ 117.733 New Jersey Intracoastal Waterway.

* * * * *

(i) The draw of the Dorset Avenue Bridge across Inside Thorofare, mile 72.1, at Ventnor City, shall open on signal except that:

(1) Year-round, from 11 p.m. to 7 a.m., the draw need only open if at least four-hour notice is given.

(2) From June 1 through September 30, from 9:15 a.m. to 9:15 p.m., the draw need open only on the 15 and 45 minutes after the hour.

* * * * *

J.C. Vann,
Rear Admiral (upper half), U.S. Coast Guard, Commander, East District.

[FR Doc. 2026-01398 Filed 1-23-26; 8:45 am]

BILLING CODE 9110-04-P